DEPARTMENT OF ENERGY

Federal Energy Regulatory Commission

[Project No. 2280-013; Project No. 13889-000]

FirstEnergy Generation Corporation; Seneca Nation of Indians; Notice of Tribal Consultation Meeting

The Commission will hold a Government to Government/Tribal Consultation meeting on September 28, 2011, at 9:30 a.m. The meeting will be held at the following location: Seneca Allegheny Administration Building, 90 Ohio:yo' Way, Salamanca, NY 14779.

The meeting will be transcribed by a court reporter, so that the transcript can be placed in the record of this proceeding.

If you have any questions, contact Gaylord Hoisington at (202) 502-6032 or gaylord.hoisington@ferc.gov for more information.

Dated: September 21, 2011.
Kimberly D. Bose,
Secretary.

[FR Doc. 2011-24958 Filed 9-27-11; 8:45 am]

BILLING CODE 6717-01-P